DEPARTMENT OF ENERGY

Federal Energy Regulatory Commission

Combined Notice of Filings #2

Take notice that the Commission received the following electric rate filings:

Docket Numbers: ER18-230-003.

Applicants: Gilroy Energy Center, LLC.

Description: Compliance filing: Gilroy Compliance Filing—Part 1 to be effective 4/1/2018.

Filed Date: 5/24/18.

Accession Number: 20180524-5106.

Comments Due: 5 p.m. ET 6/14/18.

Docket Numbers: ER18-230-004.

Applicants: Gilroy Energy Center, LLC.

Description: Compliance filing: Gilroy Compliance Filing—Part 2 to be effective 4/1/2018.

Filed Date: 5/24/18.

Accession Number: 20180524-5107.

Comments Due: 5 p.m. ET 6/14/18.

Docket Numbers: ER18-240-003.

Applicants: Metcalf Energy Center, LLC.

Description: Compliance filing: Metcalf Compliance Filing Part 1 to be effective 4/1/2018.

Filed Date: 5/24/18.

Accession Number: 20180524-5114.

Comments Due: 5 p.m. ET 6/14/18.

Docket Numbers: ER18-240-004.

Applicants: Metcalf Energy Center, LLC.

Description: Compliance filing: Metcalf Compliance Filing Part 2 to be effective 4/1/2018.

Filed Date: 5/24/18.

Accession Number: 20180524-5115.

Comments Due: 5 p.m. ET 6/14/18.

Docket Numbers: ER18-1210-001.

Applicants: Southwestern Electric Power Company.

Description: Tariff Amendment: Revised and Restated Prescott PSA to be effective 1/1/2018.

Filed Date: 5/24/18.

Accession Number: 20180524-5046.

Comments Due: 5 p.m. ET 6/14/18.

Docket Numbers: ER18-1222-001.

Applicants: PSEG Energy Resources & Trade LLC.

Description: Tariff Amendment: Amendment to Filing in Docket No. ER18-1222-00 to be effective 12/31/9998.

Filed Date: 5/24/18.

Accession Number: 20180524-5101.

Comments Due: 5 p.m. ET 6/14/18.

Docket Numbers: ER18-1402-001.

Applicants: KCP&L Greater Missouri Operations Company.

Description: Tariff Amendment: Amendment to 204 to be effective 6/1/2018.

Filed Date: 5/24/18.

Accession Number: 20180524-5156.

Comments Due: 5 p.m. ET 6/14/18.

Docket Numbers: ER18-1471-001.

Applicants: ACT Commodities, Inc.

Description: Tariff Amendment: Amended MBR Application to be effective 5/23/2018.

Filed Date: 5/22/18.

Accession Number: 20180522-5250.

Comments Due: 5 p.m. ET 6/12/18.

Docket Numbers: ER18-1681-000.

Applicants: PJM Interconnection, L.L.C.

Description: Tariff Cancellation: Notice of Cancellation of WMPA, SA No. 4515; Queue No. AB1-174 to be effective 6/26/2018.

Filed Date: 5/24/18.

Accession Number: 20180524-5044.

Comments Due: 5 p.m. ET 6/14/18.

Docket Numbers: ER18-1682-000.

Applicants: Southern California Edison Company.

Description: § 205(d) Rate Filing: Second Amended CLGIA & DSA RE Columbia Project SA Nos. 531-532 to be effective 7/24/2018.

Filed Date: 5/24/18.

Accession Number: 20180524-5072.

Comments Due: 5 p.m. ET 6/14/18.

Docket Numbers: ER18-1683-000.

Applicants: Evergreen Community Power, LLC.

Description: Notice of cancellation of market based tariff, et al. of Evergreen Community Power, LLC.

Filed Date: 5/24/18.

Accession Number: 20180524-5149.

Comments Due: 5 p.m. ET 6/14/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 24, 2018.
Nathaniel J. Davis, Sr.,
Deputy Secretary.

[FR Doc. 2018-11684 Filed 5-30-18; 8:45 am]

BILLING CODE 6717-01-P